DEPARTMENT OF THE INTERIOR

Fish and Wildlife Service

Notice of Availability of Draft Environmental Impact Statement, Draft Comprehensive Conservation Plan, and Draft Land Protection Plan for Texas Chenier Plain National Wildlife Refuge Complex

AGENCY: Fish and Wildlife Service, Department of the Interior.

ACTION: Notice of Availability.

SUMMARY: The U.S. Fish and Wildlife Service (Service) announces that the Draft Environmental Impact Statement (EIS), Draft Comprehensive Conservation Plan (CCP), and Draft Land Protection Plan (LPP) are available for the Texas Chenier Plain National Wildlife Refuge Complex. We prepared this CCP pursuant to the National Wildlife Refuge System Administration Act of 1966, as amended by the National Wildlife Refuge System Improvement Act of 1997, and the National Environmental Policy Act of 1969 (NEPA); and we describe how the Service intends to manage this Refuge Complex over the next 15 years. This draft LPP was prepared pursuant to Service policy and the National Environmental Policy Act of 1969, and would expand the approved acquisition boundary for the four refuges within the Complex.

DATES: We must receive your comments on or before January 16, 2007.

ADDRESSES: A copy of the Draft EIS, CCP, and LPP is available on a compact disk (CD), and you may obtain a copy by writing: Doug St. Pierre, Natural Resource Planner, U.S. Fish and Wildlife Service, National Wildlife Refuge System, Southwest Region, Division of Planning, P.O. Box 1306, Albuquerque, NM 87103; or, Andy Loranger, Complex Manager, Texas Chenier Plain National Wildlife Refuge Complex, 509 Washington Street, Anahuac, TX 77514. Written comments may be mailed to the above addresses or submitted via electronic mail to: doug_stpierre@fws.gov. You may also access and download copies of the draft document at the following website address: http://southwest.fws.gov/refuges/Plan/index.html.

FOR FURTHER INFORMATION, PLEASE CONTACT: Doug St. Pierre, at 505-248-6636.

SUPPLEMENTARY INFORMATION: The National Wildlife System Administration Act of 1966, as amended by the National Wildlife Refuge Improvement Act of 1997 (16 U.S.C. 668dd-668ee et seq.) requires a CCP. The purpose in developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C 4321-4370d).

Background: The Texas Chenier Plain National Wildlife Refuge Complex contains four refuges: Moody National Wildlife Refuge, Anahuac National Wildlife Refuge, McFaddin National Wildlife Refuge, and Texas Point National Wildlife Refuge. The refuges are located along the Texas Coast, between Houston, Texas, and the Louisiana state line in Chambers, Jefferson, and Galveston Counties, Texas. All four refuges include the Migratory Bird Conservation Act as a primary authority and purpose.

Moody NWR was established in 1961 and today consists of a conservation easement on approximately 3,516 acres of coastal marsh. Anahuac NWR was established in 1963 and contains 34,339 acres of coastal marsh and adjoining uplands in fee title ownership. McFaddin NWR was established in 1980 and is 58,861 acres of primarily coastal marsh in a mix of fee title and conservation easements. Texas Point NWR was established in 1979 and consists of 8,952 acres of coastal marsh in fee title ownership.

The integrated EIS contains two sets of alternatives addressing two separate but related Federal Actions: (1) Refuge management alternatives for development of a CCP for the Complex, and (2) alternatives for expansion of the refuge acquisition boundaries.

Five refuge management alternatives are proposed and evaluated for the Refuge Complex. The first management alternative is the “No Action” alternative, required by NEPA, which would continue the current refuge management activities. Current habitat management activities include (1) water management; (2) wetland, prairie, and woodlot restoration; (3) moist soil management units; (4) cooperative rice farming; (5) fire management; (6) controlled livestock grazing; and (7) exotic/invasive species management. The second management alternative emphasizes intensifying management of wetland habitats for waterfowl, shorebirds, wading birds, and other wetland-dependent migratory birds. The third management alternative emphasizes native habitat restoration and addressing threats from coastal land loss, altered hydrology, exotic species, and contaminants. The fourth management alternative, the Service's preferred alternative, emphasizes an integrated management approach combining (1) expanded habitat management and restoration programs, (2) new research and wildlife population monitoring, and (3) increased efforts to address major threats to ecosystem health. The fifth management alternative emphasizes a passive management approach. All five of these refuge management alternatives make wildlife-dependent recreational opportunities available to the public, including opportunities for hunting, fishing, wildlife observation and photography, and environmental education and interpretation.

Four refuge boundary expansion alternatives are proposed and evaluated. The first expansion alternative is the “No Action” alternative, required by NEPA, which would retain the current refuge acquisition boundaries. The second expansion alternative would expand the refuge boundary for Moody NWR by 5,050 acres; for Anahuac NWR by 20,500 acres; for McFaddin NWR by 7,190 acres; and for Texas Point NWR by 850 acres. The total expansion of 33,590 acres continues the historic focus on land acquisition primarily in coastal marsh and adjacent agricultural uplands. The third expansion alternative, the Service's preferred alternative, would expand the refuge boundary for Moody NWR by 7,920 acres; for Anahuac NWR by 47,750 acres; for McFaddin NWR by 7,190 acres; and for Texas Point NWR by 1,400 acres. The total expansion of 64,260 acres includes all of the coastal marsh and adjacent agricultural uplands from the second expansion alternative plus two important areas of native coastal prairie. The fourth expansion alternative would expand the refuge boundary for Moody NWR by 7,920 acres, for Anahuac NWR by 64,910, for McFaddin NWR by 29,890 acres, and for Texas Point NWR by 1,400 acres. The total expansion of 104,120 acres includes all of the lands in the third expansion alternative along with a large freshwater marsh north of the current McFaddin NWR and a near-coast bottomland hardwood area important to neotropical migratory birds. Lands acquired in the future would be managed according to the strategies contained in the Service's preferred management alternative.

Public Meetings: The Service will hold at least two public meetings in Chambers and Jefferson Counties, Texas, 30 days after publication of this notice to present the draft document, answer questions, and receive formal public comments. Notice of the meetings will be posted in local newspapers and other media outlets and given through special mailings to individuals and organizations that have expressed interest in this planning effort.

Editorial note: This document was received at the Office of the Federal Register October 11, 2006.

Dated: April 3, 2006.
Geoffrey L. Haskett,
Acting, Regional Director, U.S. Fish and Wildlife Service,Albuquerque, New Mexico.

[FR Doc. E6-17087 Filed 10-16-06; 8:45 am]

BILLING CODE 4310-55-P